ENVIRONMENTAL PROTECTION AGENCY

40 CFR Part 62

[EPA-R07-OAR-2023-0199; FRL-10830.1-01-R7]

Approval of State Plans for Designated Facilities and Pollutants; MO; Approval and Promulgation of Implementation Plans; Control of Emissions From Existing Municipal Solid Waste Landfills

AGENCY: Environmental Protection Agency (EPA).

ACTION: Final rule.

SUMMARY: The Environmental Protection Agency (EPA) is approving a Clean Air Act (CAA) plan and two state rules submitted by the Missouri Department of Natural Resources (MoDNR) on July 25, 2022. This plan was submitted to fulfill the state's obligations under the CAA to implement and enforce the requirements of the Emissions Guidelines and Compliance Times for municipal solid waste (MSW) landfills. This plan includes an inventory of affected sources and explains how the state rules fulfill the regulatory requirements needed for EPA to approve the plan.

DATES: This final rule is effective on January 15, 2025. The incorporation by reference of the publication listed in this rule is approved by the Director of the Federal Register as of January 15, 2025.

ADDRESSES: The EPA has established a docket for this action under Docket ID No. EPA-R07-OAR-2023-0199. All documents in the docket are listed on the https://www.regulations.gov website. Although listed in the index, some information is not publicly available, i.e., Confidential Business Information (CBI) or other information whose disclosure is restricted by statute. Certain other material, such as copyrighted material, is not placed on the internet and will be publicly available only in hard copy form. Publicly available docket materials are available through https://www.regulations.gov or please contact the person identified in the FOR FURTHER INFORMATION CONTACT section for additional information.

FOR FURTHER INFORMATION CONTACT: Allyson Prue, Environmental Protection Agency, Region 7 Office, Air Permitting and Planning Branch, 11201 Renner Boulevard, Lenexa, Kansas 66219; telephone number: (913) 551-7277; email address: prue.allyson@epa.gov.

SUPPLEMENTARY INFORMATION: Throughout this document “we,” “us,” and “our” refer to EPA.

Table of Contents

I. Background

II. What is being addressed in this document?

III. The EPA's Response to Comments

IV. What action is the EPA taking?

V. Incorporation by Reference

VI. Statutory and Executive Order Review

I. Background

On August 21, 2023, the EPA proposed to approve Missouri's submitted section 111(d) State Plan with two accompanying state rule revisions and a SIP revision in the Federal Register (88 FR 56787). The EPA proposed to approve both the section 111(d) State Plan with two accompanying state rule revisions and SIP revision together. On February 16, 2024, the EPA finalized approval of the SIP revision to 10 CSR 10-5.490 “Municipal Solid Waste Landfills” (which covers the St. Louis area) into Missouri's SIP (89 FR 12244). In this action, the EPA is finalizing approval of the section 111(d) State Plan and two accompanying state rule revisions.

The proposed rule included additional background information on Missouri's Municipal Solid Waste Landfill Rule for the St. Louis Ozone Nonattainment Area. The Technical Support Document (TSD), located in the docket for this rulemaking, includes the summary and analysis of Missouri's SIP Revision. The EPA solicited comments on the proposed approval of the submission and received one comment.

II. What is being addressed in this document?

EPA is approving Missouri's section 111(d) State Plan for Existing MSW Landfills (Missouri's section 111(d) State Plan) and two state rules accompanying the plan pursuant to 40 CFR part 60, subparts B and Cf. Missouri state rule 10 Code of State Regulations (CSR) 10-6.310 “Restriction of Emissions from Municipal Solid Waste Landfills” (which covers all areas of Missouri except St. Louis) and 10 CSR 10-5.490 “Municipal Solid Waste Landfills” (which covers the St. Louis area) provide the enforceable portion of Missouri's section 111(d) State Plan. The state rules incorporate by reference the federal plan located at 40 CFR part 62, subpart OOO as the underlying rule which implements and enforces the applicable provisions under the 2016 MSW landfill Emissions Guidelines at 40 CFR part 60, subpart Cf.

EPA's detailed rationale and discussion concerning Missouri's section 111(d) State Plan, including the revisions to 10 CSR 10-6.310 and 10 CSR 10-5.490 can be found in the EPA TSD, located in the docket for this rulemaking.

III. The EPA's Response to Comments

The public comment period on the EPA's proposed rule opened August 21, 2023 the date of its publication in the Federal Register and closed on September 20, 2023. During this period, EPA received one comment that was supportive of EPA's proposed action.

IV. What action is the EPA taking?

The EPA is taking final action to approve Missouri's section 111(d) plan and the two state rules for MSW landfills pursuant to 40 CFR part 60, subparts B and Cf. Therefore, EPA amends 40 CFR part 62, subpart AA, to reflect this action. The EPA's final approval of Missouri's section 111(d) plan will result in the replacement of the federal plan currently in place in the State of Missouri.

V. Incorporation by Reference

In this document, EPA is finalizing regulatory text that includes incorporation by reference. In accordance with requirements of 1 CFR 51.5, EPA is finalizing the incorporation by reference of the Missouri state rules 10 CSR 10-5.490 and 10 CSR 10-6.310, state effective date July 30, 2022, which regulate municipal solid waste landfills. EPA has made, and will continue to make, these materials generally available through the docket for this action, EPA-R07-OAR-2023-0199, at https://www.regulations.gov and at the EPA Region 7 Office (please contact the person identified in the FOR FURTHER INFORMATION CONTACT section of this preamble for more information).

VI. Statutory and Executive Order Review

Under the CAA, the Administrator is required to approve a CAA section 111(d) submission that complies with the provisions of the CAA and applicable Federal regulations. 42 U.S.C. 7411(d); 42 U.S.C. 7429; 40 CFR part 60, subparts B and Cf; and 40 CFR part 62, subparts A and OOO. Thus, in reviewing CAA section 111(d) state plan submissions, the EPA's role is to approve state choices provided that they meet the minimum criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the CAA;

In addition, the CAA section 111(d) submission is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

MoDNR did not evaluate environmental justice considerations as part of its 111(d) plan submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

This action is subject to the Congressional Review Act (CRA), and EPA will submit a rule report to each House of the Congress and to the Comptroller General of the United States. This action is not a “major rule” as defined by 5 U.S.C. 804(2).

Under section 307(b)(1) of the CAA, petitions for judicial review of this action must be filed in the United States Court of Appeals for the appropriate circuit by February 14, 2025. Filing a petition for reconsideration by the Administrator of this final rule does not affect the finality of this action for the purposes of judicial review nor does it extend the time within which a petition for judicial review may be filed and shall not postpone the effectiveness of such rule or action. This action may not be challenged later in proceedings to enforce its requirements (see section 307(b)(2)).

List of Subjects in 40 CFR Part 62

Environmental protection, Administrative practice and procedure, Air pollution control, Incorporation by reference, Intergovernmental relations, Reporting and recordkeeping requirements.

Dated: December 9, 2024.
Meghan A. McCollister,
Regional Administrator, Region 7.

For the reasons stated in the preamble, the EPA amends 40 CFR part 62 as set forth below:

PART 62—APPROVAL AND PROMULGATION OF STATE PLANS FOR DESIGNATED FACILITIES AND POLLUTANTS

1. The authority citation for part 62 continues to read as follows:

Authority: 42 U.S.C. 7401 et seq.

Subpart AA—Missouri Air Emissions From Existing Municipal Solid Waste Landfills

2. Revise § 62.6357 to read as follows:

§ 62.6357 Missouri Department of Natural Resources.

(a) Identification of plan. Missouri plan for control of landfill gas emissions from existing municipal solid waste landfills and associated state regulations submitted on January 26, 1998, with amendments on September 8, 2000, February 9, 2012, and July 25, 2022. The plan includes the regulatory provisions cited in paragraph (d) of this section, which EPA incorporates by reference.

(b) Identification of sources. The plan applies to all existing municipal solid waste landfills for which construction, reconstruction, or modification was commenced before May 30, 1991, that accepted waste at any time since November 8, 1987, or that have additional capacity available for future waste deposition, and have design capacities greater than 2.5 million megagrams and nonmethane organic emissions greater than 50 megagrams per year, as described in 40 CFR part 60, subpart Cc.

(c) Effective date. The effective date of the plan for municipal solid waste landfills is June 23, 1998. The amendments are effective January 16, 2001, May 30, 2012, and January 15, 2025, respectively.

(d) Incorporation by reference. (1) Certain material is incorporated by reference into this section with the approval of the Director of the Federal Register under 5 U.S.C. 552(a) and 1 CFR part 51. All approved incorporation by reference material is available for inspection at the Environmental Protection Agency (EPA) and at the National Archives and Records Administration (NARA). Contact the EPA Region 7 office, 11201 Renner Boulevard, Lenexa, Kansas 66219; telephone number: (913) 551-7003; email address: prue.allyson@epa.gov. You may obtain copies from the EPA Region 7 office or the EPA Docket Center—Public Reading Room, EPA West Building, Room 3334, 1301 Constitution Avenue NW, Washington, DC 20004; telephone number: (202) 566-1744. For information on the availability of this material at NARA, visit https://www.archives.gov/federal-register/cfr/ibr-locations or email fr.inspection@nara.gov. You may also obtain this material from the source in paragraph (d)(2) of this section.

(2) State of Missouri, 600 West Main Street, Jefferson City, Missouri 65101; telephone number: (573) 751-4015; https://www.sos.mo.gov/adrules/csr/current/10csr/10csr.asp#10-10.

(i) 10 CSR 10-5.490, Municipal Solid Waste Landfills, effective July 30, 2022.

(ii) 10 CSR 10-6.310, Restriction of Emissions from Municipal Solid Waste Landfills, effective July 30, 2022.

[FR Doc. 2024-29404 Filed 12-13-24; 8:45 am]

BILLING CODE 6560-50-P